DEPARTMENT OF JUSTICE

[OMB 1140-0071]

Agency Information Collection Activities; Proposed eCollection eComments Requested; Revision of a Previously Approved Collection; Notification to Fire Safety Authority of Storage of Explosive Materials

AGENCY: Bureau of Alcohol, Tobacco, Firearms and Explosives, Department of Justice.

ACTION: 60-Day notice.

SUMMARY: The Department of Justice (DOJ), The Bureau of Alcohol, Tobacco, Firearms and Explosives (ATF), will be submitting the following information collection request to the Office of Management and Budget (OMB) for review and approval in accordance with the Paperwork Reduction Act of 1995.

DATES: Comments are encouraged and will be accepted for 60 days until January 21, 2025.

FOR FURTHER INFORMATION CONTACT: If you have additional comments especially on the estimated public burden or associated response time, suggestions, or need a copy of the proposed information collection instrument with instructions or additional information, contact: John Basile, EIPB, either by mail at Bureau of Alcohol, Tobacco, Firearms, and Explosives; 99 New York Ave. NE; Washington, DC 20226, by email at EIPB@atf.gov/john.basile@atf.gov, or telephone at (202) 648-7120.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The information collection is necessary for the safety of emergency response personnel responding to fires at sites where explosives are stored. Information Collection (IC) OMB 1140-0071 is being revised to update the overall public burden, which includes the monetized value of the hour burden per response, an increase of respondents from 975 to 10,000, and increased postage cost from 49 cents to 73 cents. Together, these changes resulted in an increase in annual burden hours from 488 to 5,000, an annual monetized value of the hour burden increase to $223,950, and an annual increase in postage costs from $359 to $1,825.

Overview of This Information Collection

1. Type of Information Collection: Revision of a previously approved collection.

2. The Title of the Form/Collection: Notification to Fire Safety Authority of Storage of Explosive Materials.

3. The agency form number, if any, and the applicable component of the Department sponsoring the collection: Form number: None.

Component: Bureau of Alcohol, Tobacco, Firearms and Explosives, U.S. Department of Justice.

4. Affected public who will be asked or required to respond, as well as the obligation to respond: Affected Public: State, local and tribal governments, farms, individuals or households, Private Sector-for or not for profit institutions. The obligation to respond is mandatory per 27 CFR 555.201, 18 U.S.C. 842 (j), and 18 U.S.C. 846.

5. An estimate of the total number of respondents and the amount of time estimated for an average respondent to respond: An estimated 10,000 respondents will respond to this collection once annually, and it will take each respondent approximately 30 minutes to complete their responses.

6. An estimate of the total annual burden (in hours) associated with the collection: The estimated annual public burden associated with this collection is 5,000, which is equal to 10,000 (total respondents) * 1 (# of response per respondent) * 0.5 (30 minutes).

7. An estimate of the total annual cost burden associated with the collection, if applicable: The total annual monetized value of the time burden associated with this collection is $223,950 (10,000 total responses * $22.395 cost per response). Over the three-year renewal period for this ICR, the monetized value of the time burden (due to annual notices) would be $671,850.

Total Burden Hours
Activity | Number of respondents | Frequency (annually) | Total annual responses | Time per response (mins) | Total annual burden (hours)
Notice to fire safety authority re: storing explosive materials | 10,000 | 1 | 10,000 | 30 | 5,000
Unduplicated Totals | 10,000 | 1 | 10,000 | 30 | 5,000

If additional information is required contact: Darwin Arceo, Department Clearance Officer, United States Department of Justice, Justice Management Division, Policy and Planning Staff, Two Constitution Square, 145 N Street NE, 4W-218, Washington, DC.

Dated: November 14, 2024.
Darwin Arceo,
Department Clearance Officer for PRA, U.S. Department of Justice.

[FR Doc. 2024-26963 Filed 11-18-24; 8:45 am]

BILLING CODE 4410-FY-P